DEPARTMENT OF LABOR

Employment and Training Administration

[TA-W-38,937]

Fruit of the Loom, Osceola, Arkansas; Notice of Termination of Investigation

Pursuant to section 221 of the Trade Act of 1974, an investigation was initiated on November 20, 2000, in response to a worker petition which was filed by a company official, on behalf of workers at Fruit of the Loom, Osceola, Arkansas.

An active certification covering the petitioning group of workers at the subject firm remains in effect (TA-W-38,448). Consequently, further investigation in this case would serve no purpose, and the investigation has been terminated.

Signed in Washington, DC this 6th day of April, 2001.
Linda G. Poole,
Certifying Officer, Division of Trade Adjustment Assistance.

[FR Doc. 01-9714 Filed 4-18-01; 8:45 am]

BILLING CODE 4510-30-M